DEPARTMENT OF DEFENSE

Office of the Secretary

[Transmittal No. 25-35]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-35, Policy Justification, and Sensitive of Technology.

Dated: January 12, 2026.
Stephanie J. Bost,
Alternate OSD Federal Register Liaison Officer, Department of Defense.

BILLING CODE 6001-FR-P

BILLING CODE 6001-FR-C

Transmittal No. 25-35

Notice of Proposed Issuance of Letter of Offer Pursuant to Section 36(b)(1) of the Arms Export Control Act, as amended

(i) Prospective Purchaser: Government of the Netherlands

(ii) Total Estimated Value:

Major Defense Equipment * | $0.95 billion
Other | $1.24 billion
TOTAL | $2.19 billion

(iii) Description and Quantity or Quantities of Articles or Services under Consideration for Purchase:

Major Defense Equipment (MDE):

Up to one hundred sixty-three (163) Tomahawk Block V All Up Rounds (AURs)

Twelve (12) Tomahawk Block IV AURs

Up to ten (10) Tactical Tomahawk Weapons Control Systems (TTWCS)

Up to two (2) Tomahawk Block IV telemetry missiles

Non-Major Defense Equipment:

The following non-MDE items will also be included: satellite data link terminals (KIV-18A); integrated secure broadcast systems (KSX-5); communications security devices (KGV-135A); technical, programmatic, engineering, and logistical support for the Tomahawk AUR missiles, TTWCS, and Mission Distribution Software; missile containers; software; hardware; training; training devices; unscheduled missile maintenance; spares; in-service support; communication equipment; operational flight test; publications; engineering and technical expertise to maintain the capability; non-recurring engineering; transportation; and other related elements of logistics and program support.

(iv) Military Department: Navy (NE-P-AGR, NE-P-AGS, NE-P-AGT)

(v) Prior Related Cases, if any: NE-P-LHV

(vi) Sales Commission, Fee, etc., Paid, Offered, or Agreed to be Paid: None known at this time

(vii) Sensitivity of Technology Contained in the Defense Article or Defense Services Proposed to be Sold: See Attached Annex

(viii) Date Report Delivered to Congress: April 25, 2025

* as defined in Section 47(6) of the Arms Export Control Act.

POLICY JUSTIFICATION

The Netherlands—Tomahawk Land Attack Missiles

The Government of the Netherlands has requested to buy up to one hundred sixty-three (163) Tomahawk Block V All Up Rounds (AURs); twelve (12) Tomahawk Block IV AURs; up to ten (10) Tactical Tomahawk Weapons Control Systems (TTWCS); and up to two (2) Tomahawk Block IV telemetry missiles. The following non-MDE items will also be included: satellite data link terminals (KIV-18A); integrated secure broadcast systems (KSX-5); communications security devices (KGV-135A); technical, programmatic, engineering, and logistical support for the Tomahawk AUR missiles, TTWCS, and Mission Distribution Software; missile containers; software; hardware; training; training devices; unscheduled missile maintenance; spares; in-service support; communication equipment; operational flight test; publications; engineering and technical expertise to maintain the capability; non-recurring engineering; transportation; and other related elements of logistics and program support. The estimated total cost is $2.19 billion.

This proposed sale will support the foreign policy goals and national security objectives of the United States (U.S.) by improving the security of a NATO Ally that is a force for political stability and economic progress in Europe.

The proposed sale will improve the Netherland's capability to meet current and future threats by utilizing long-range, conventional surface-to-surface missiles with significant standoff range that can neutralize growing threats. The Netherlands will have no difficulty absorbing these articles and services into its armed forces.

The proposed sale of this equipment and support will not alter the basic military balance in the region.

The principal contractor will be RTX Corporation, located in Tucson, AZ. There are known offset requirements associated with this sale. See the attached annex for further details.

Implementation of this proposed sale will not require the assignment of any additional U.S. Government or contractor representatives to the Netherlands.

There will be no adverse impact on U.S. defense readiness as a result of this proposed sale.

Transmittal No. 25-35

Notice of Proposed Issuance of Letter of Offer Pursuant to Section 36(b)(1) of the Arms Export Control Act

Annex

Item No. vii

(vii) Sensitivity of Technology:

1. The Tomahawk Block IV and V All Up Round (AUR) is a Tomahawk cruise missile assembled in a canister for surface launch. Tomahawk Block IV and V capabilities include increased system flexibility; improved system response times; improved lethality against an increased target set; improved accuracy; improved anti-jam GPS receiver with Selective Availability Anti-Spoofing Module (SAASM) capability; enhanced availability due to a 15-year maintenance interval; and two-way communications between missile and strike or missile controllers via ultra-high frequency (UHF) Satellite Communications (SATCOM).

a. The two-way communication capability, provided by the Satellite Data Link Terminal (SDLT), enables mission planners and the strike or missile controllers to issue in-flight missile retargeting commands and receive in-flight missile status and information transmissions.

b. The Tactical Tomahawk Weapon Control System (TTWCS) provides command and control, targeting, mission planning, and distribution functions.

c. The Tomahawk Block IV telemetry missiles are test missiles to be launched from Netherlands' air defense and command frigates to certify the platform ahead of initial operational capability.

d. The SDLT (KIV-18A) inside the Block IV Tomahawk is a UHF SATCOM terminal used for data communications between the missile and strike or missile controller via satellite.

e. The Integrated Secure Broadcast Systems (KSX-5) satellite radio inside the Block V TLAM communicates via the Advanced Communications Architecture (ACA). It provides increased bandwidth, capacity, reliability, and resiliency over the previous SDLT radio. It is used for data communications between the missile and strike or missile controller via satellite and network service provider.

f. The communications security devices (KGV-135A) inside the Block IV telemetry missiles provide telemetry data during a test launch event.

2. The highest level of classification of defense articles, components, and services included in this potential sale is SECRET.

3. If a technologically advanced adversary were to obtain knowledge of the specific hardware and software elements, the information could be used to develop countermeasures that might reduce system effectiveness or be used in the development of a system with similar or advanced capabilities.

4. A determination has been made that the Netherlands can provide substantially the same degree of protection for the sensitive technology being released as the U.S. Government. This sale is necessary in furtherance of the U.S. foreign policy and national security objectives outlined in the Policy Justification.

5. All defense articles and services listed in this transmittal have been authorized for release and export to the Government of the Netherlands.

[FR Doc. 2026-00705 Filed 1-14-26; 8:45 am]

BILLING CODE 6001-FR-P